DEPARTMENT OF TRANSPORTATION

Federal Highway Administration

[FHWA Docket No. FHWA-2016-0029]

FAST Act Section 1422 Study on Performance of Bridges

AGENCY: Federal Highway Administration (FHWA), DOT.

ACTION: Notice and request for comment.

SUMMARY: Section 1422 of the Fixing America's Surface Transportation (FAST) Act directs the Administrator of the Federal Highway Administration (FHWA) to commission the Transportation Research Board of the National Academy of Sciences to conduct a study on the performance of bridges that received funding under the Innovative Bridge Research and Construction program in meeting the goals of that program. Section 1422 also directs the Administrator of FHWA to provide an opportunity for public comment on the study proposal before commissioning the study. This notice provides the study proposal and the opportunity for public comment.

DATES: Comments must be received on or before December 16, 2016.

ADDRESSES: Mail or hand deliver comments to Docket Management Facility: U.S. Department of Transportation, 1200 New Jersey Avenue SE., Room W12-140, Washington, DC 20590. You may also submit comments electronically at www.regulations.gov. All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. Anyone is able to search the electronic form of all comments in any one of our dockets by the name of the individual submitting the comment (or signing the comment, if submitted on behalf of an association, business, or labor union). The DOT posts these comments, without edit, including any personal information the commenter provides, to www.regulations.gov, as described in the system of records notice (DOT/ALL-14 FDMS), which can be reviewed at www.dot.gov/privacy.

FOR FURTHER INFORMATION CONTACT: Mr. Derek Constable, Office of Bridges and Structures, (202) 366-4606, or via email at derek.constable@dot.gov; Mr. Shay Burrows, Office of Bridges and Structures, (202) 366-4675, or via email at shay.burrows@dot.gov; for legal questions, Mr. Robert Black, (202) 366-1359, or via email at robert.black@dot.gov, 1200 New Jersey Ave. SE., Washington, DC 20590. Office hours are from 8:00 a.m. to 4:30 p.m., e.t., Monday through Friday, except Federal holidays.

SUPPLEMENTARY INFORMATION:

Electronic Access

An electronic copy of this notice may be downloaded from the specific docket page at www.regulations.gov.

Background

As directed by FAST Act Section 1422, FHWA will commission the Transportation Research Board to conduct a study on the performance of bridges funded by the Innovative Bridge Research and Construction (IBRC) program as provided under section 503(b) of Title 23, United States Code, and in effect on the day before the date of enactment of the Safe, Accountable, Flexible, Efficient Transportation Equity Act: A Legacy for Users (SAFETEA-LU). The IBRC program was originated by the Transportation Equity Act for the 21st Century (TEA-21) with the purpose of demonstrating the application of innovative material technology in the construction of bridges and other structures. Seven goals were identified in TEA-21. SAFETEA-LU continued the program, but amended the program name, purpose, and goals. The program was then discontinued with the passage of the Moving Ahead for Progress in the 21st Century (MAP-21) Act. The FAST Act directs FHWA to commission the Transportation Research Board to conduct a study on the performance of bridges that received funding under the IBRC program. The IBRC program provided funding to help defray costs on more than 400 projects.

The study will include an analysis of the performance of bridges that received funding under the IBRC program in meeting the program goals;

(A) The development of new, cost-effective innovative material highway bridge applications;

(B) the reduction of maintenance costs and lifecycle costs of bridges, including the costs of new construction, replacement, or rehabilitation of deficient bridges;

(C) the development of construction techniques to increase safety and reduce construction time and traffic congestion;

(D) the development of engineering design criteria for innovative products and materials for use in highway bridges and structures;

(E) the development of cost-effective and innovative techniques to separate vehicle and pedestrian traffic from railroad traffic;

(F) the development of highway bridges and structures that will withstand natural disasters, including alternative processes for the seismic retrofit of bridges; and

(G) the development of new nondestructive bridge evaluation technologies and techniques.

The study also will include an analysis of the utility, compared to conventional materials and technologies, of each of the innovative materials and technologies used in projects for bridges under the program in meeting the needs of the United States in 2015 and in the future for a sustainable and low lifecycle cost transportation system; recommendations to Congress on how the installed and lifecycle costs of bridges could be reduced through the use of innovative materials and technologies, including, as appropriate, any changes in the design and construction of bridges needed to maximize the cost reductions; and a summary of any additional research that may be needed to further evaluate innovative approaches to reducing the installed and lifecycle costs of highway bridges.

The FAST Act requires each State that received funds under the program to provide to the Transportation Research Board any relevant data needed to carry out the study.

The FHWA proposes to focus the study on only the technologies implemented by the IBRC program and will only include bridges that received IBRC program funding. The FHWA's Recommendations to Congress on how to reduce the installed and life cycle costs of bridges will also be based upon the IBRC program study and improvements inspired by the program. In addition, FHWA proposes to focus the study on the effect of the designs, materials, and construction methods on the performance of bridges while they are in service.

The FHWA proposes that the assessment of the performance of bridges while they are in service will use existing information and data that is known or has already been collected by the bridge owners. The FHWA proposes the TRB contact recipients of IBRC funding to provide information and data by interview, survey, and/or release of records. Interviews and surveys may be required to determine which projects to focus the study on and to gather relevant background, cost, and performance information. Records required may include data, documents, and reports associated with design, construction, in-service inspection, maintenance, evaluation, monitoring, and other relevant phases or activities.

Interested parties are invited to provide comment on this study proposal.

Authority: Sec. 1422, Pub. L. 114-94, 129 Stat. 1312; 49 CFR 1.85.

Dated: November 9, 2016.
Gregory G. Nadeau,
Administrator, Federal Highway Administration.

[FR Doc. 2016-27504 Filed 11-15-16; 8:45 am]

BILLING CODE 4910-22-P